NATIONAL SCIENCE FOUNDATION

Agency Information Collection Activities: Comment Request; 2025 National Survey of College Graduates

AGENCY: National Center for Science and Engineering Statistics, National Science Foundation.

ACTION: Submission for OMB review; comment request.

SUMMARY: The National Center for Science and Engineering Statistics (NCSES) within the National Science Foundation (NSF) has submitted the following information collection requirement to OMB for review and clearance under the Paperwork Reduction Act of 1995. This is the second notice for public comment; the first was published in the Federal Register and two comments were received. NCSES is forwarding the proposed information collection to the Office of Management and Budget (OMB) for clearance simultaneously with the publication of this second notice. The full submission may be found at: http://www.reginfo.gov/public/do/PRAMain.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

SUPPLEMENTARY INFORMATION:

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

NSF may not conduct or sponsor a collection of information unless the collection of information displays a currently valid OMB control number and the agency informs potential persons who are to respond to the collection of information that such persons are not required to respond to the collection of information unless it displays a currently valid OMB control number.

Comments: As required by 5 CFR 1320.8(d), comments on the information collection activities as part of this study were solicited through the publication of a 60-Day Notice in the Federal Register on September 4, 2024, at 89 FR 71938. We received four comments. The nature of each comment and our responses are summarized below.

• The American Association for the Advancement of Science (AAAS) and the American Educational Research Association (AERA) provided a joint comment discussing the necessity of the NSCG data to provide critical insights into opportunities and gaps in the STEM workforce. The commentors also encouraged the incorporation of a sexual orientation question into the 2025 NSCG survey cycle.

• The Council of Professional Associations on Federal Statistics (COPAFS) provided a comment encouraging the incorporation of a sexual orientation question into the 2025 NSCG survey cycle.

• The Federation of Associations in Behavioral & Brain Sciences (FABBS) provided a comment encouraging the incorporation of a sexual orientation question into the 2025 NSCG survey cycle.

• An Associate Professor from Columbia University provided feedback on past sexual orientation and gender identity research conducted by NCSES and the Census Bureau. The commentor also encouraged the incorporation of a sexual orientation question into the 2025 NSCG survey cycle.

Response: NCSES thanked the commentors for their support of the NSCG, referenced the NCSES website that summarizes past research findings, and summarized the necessity of using the Census Bureau's American Community Survey sexual orientation research findings, when completed, to inform NCSES's future data collection plans.

Title of Collection: 2025 National Survey of College Graduates.

OMB Control Number: 3145-0141.

Summary of Collection: The National Survey of College Graduates (NSCG) has been conducted biennially since the 1970s. The 2025 NSCG sample will be selected from the 2023 American Community Survey (ACS) and the 2023 NSCG. By selecting the sample from these two sources, the 2025 NSCG will provide coverage of the college graduate population residing in the United States. The purpose of this repeated cross-sectional survey is to collect data that will be used to provide national estimates on the science and engineering workforce and changes in their employment, education, and demographic characteristics.

The National Science Foundation Act of 1950, as subsequently amended, includes a statutory charge to “. . . provide a central clearinghouse for the collection, interpretation, and analysis of data on scientific and engineering resources, and to provide a source of information for policy formulation by other agencies of the Federal Government.” The NSCG is designed to comply with these mandates by providing information on the supply and utilization of the nation's scientists and engineers.

The U.S. Census Bureau will continue to serve as the NSCG data collection contractor for NCSES. The survey data collection is expected to begin in March 2025 and continue for approximately six months. Data will be collected using web and mail questionnaires. The individual's response to the survey is voluntary. The survey will be conducted in conformance with Census Bureau statistical quality standards and, as such, the NSCG data will be afforded confidentiality protection under the applicable Census Bureau confidentiality statutes.

Use of the Information: NCSES uses the information from the NSCG to prepare congressionally mandated reports such as Women, Minorities and Persons with Disabilities in Science and Engineering (https://www.nsf.gov/statistics/women/) and Science and Engineering Indicators (https://ncses.nsf.gov/indicators), both of which are available online. A public release file of collected data, designed to protect respondent confidentiality, will be made available on the internet and will be accessible through an online data tool (https://ncsesdata.nsf.gov/ids/).

Expected Respondents: A statistical sample of approximately 161,000 persons will be contacted in 2025. NCSES estimates the 2025 NSCG response rate to be 60 to 65 percent.

Estimate of Burden: The amount of time to complete the questionnaire may vary depending on an individual's circumstances; however, it is estimated that on average it will take approximately 23 minutes to complete the survey. NCSES estimates that the average annual burden for the 2025 NSCG over the course of the three-year OMB clearance period will be no more than 13,372 hours [(161,000 individuals × 65% response rate × 23 minutes)/3 years].

Dated: January 8, 2025.
Suzanne H. Plimpton,
Reports Clearance Officer, National Science Foundation.

[FR Doc. 2025-00683 Filed 1-14-25; 8:45 am]

BILLING CODE 7555-01-P